FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than February 16, 2010.

A. Federal Reserve Bank of Atlanta (Steve Foley, Vice President) 1000 Peachtree Street, N.E., Atlanta, Georgia 30309:

1. Viradesh Kumar Nanda and Sameer Kumar Nanda; to acquire additional shares of Hometown Community Bancshares, Inc., and its subsidiary, Hometown Community Bank, both of Braselton, Georgia. Total pro forma ownership will equal 17.51 percent.

2. Brian Clayton McRae, of Shreveport, Louisiana; to retain shares of Vernon Bancshares, and its subsidiary bank, Vernon Bank, both of Leesville, Louisiana.

Board of Governors of the Federal Reserve System, January 27, 2010.
Robert deV. Frierson,
Deputy Secretary of the Board.

[FR Doc. 2010-1964 Filed 1-29-10; 8:45 am]

BILLING CODE 6210-01-S